DEPARTMENT OF TRANSPORTATION

Federal Aviation Administration

14 CFR Part 39

[Docket No. FAA-2005-22074; Directorate Identifier 2005-NM-152-AD; Amendment 39-14220; AD 2005-16-14]

RIN 2120-AA64

Airworthiness Directives; Gulfstream Model G-IV, GIV-X, GV, and GV-SP Series Airplanes

AGENCY: Federal Aviation Administration (FAA), Department of Transportation (DOT).

ACTION: Final rule; request for comments.

SUMMARY: The FAA is adopting a new airworthiness directive (AD) for all Gulfstream Model G-IV and GV series airplanes, and certain GIV-X and GV-SP series airplanes. This AD requires a one-time inspection to determine if a certain floor heater pad system is installed, and deactivation of the subject floor heater pad system if it is installed. This AD results from an incident of short-circuiting of the floor heater pads, in which no circuit breakers tripped in response to the short-circuiting. We are issuing this AD to prevent short-circuiting of the floor heater pad system, which could result in a fire in the airplane cabin.

DATES: Effective Date: August 30, 2005.

The Director of the Federal Register approved the incorporation by reference of certain publications listed in the AD as of August 30, 2005.

We must receive comments on this AD by October 14, 2005.

ADDRESSES: Use one of the following addresses to submit comments on this AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street SW., Nassif Building, Room PL-401, Washington, DC 20590.

• Fax: (202) 493-2251.

• Hand Delivery: Room PL-401 on the plaza level of the Nassif Building, 400 Seventh Street SW., Washington, DC, between 9 a.m. and 5 p.m., Monday through Friday, except Federal holidays.

Contact Gulfstream Aerospace Corporation, Technical Publications Dept., P.O. Box 2206, Savannah, Georgia 31402-2206, for service information identified in this AD.

FOR FURTHER INFORMATION CONTACT: Robert Chupka, Aerospace Engineer, Systems and Equipment Branch, ACE-119A, FAA, Atlanta Aircraft Certification Office, One Crown Center, 1895 Phoenix Boulevard, suite 450, Atlanta, Georgia 30349; telephone (770) 703-6070; fax (770) 703-6097.

SUPPLEMENTARY INFORMATION:

Discussion

We have received a report of an incident in which an Adel Wiggins floor heater pad system short-circuited on a Gulfstream GV-SP series airplane. The short-circuit was discovered after an odor of burning was detected emanating from the floor of the cabin. The short-circuit resulted in localized damage to the floorboard and carpet. No circuit breakers tripped as a result of the short-circuiting. This condition, if not corrected, could result in a fire in the airplane cabin.

The subject Adel Wiggins floor heater pad system may also be installed on all Gulfstream Model G-IV and G-V series airplanes and certain Gulfstream Model GIV-X series airplanes. Therefore, those models may be subject to the unsafe condition revealed on certain Model GV-SP series airplanes.

Relevant Service Information

We have reviewed the service information specified in the table below.

Relevant Gulfstream Service Information
For Gulfstream model— | Document title | Date
G-IV | Gulfstream G-IV Alert Customer Bulletin 33 | June 13, 2005.
GV | Gulfstream GV Alert Customer Bulletin 22 | June 13, 2005.
G-IV (G300) | Gulfstream G300 Alert Customer Bulletin 33 | June 13, 2005.
GIV-X (G350) | Gulfstream G350 Alert Customer Bulletin 2 | June 13, 2005.
G-IV (G400) | Gulfstream G400 Alert Customer Bulletin 33 | June 13, 2005.
GIV-X (G450) | Gulfstream G450 Alert Customer Bulletin 2 | June 13, 2005.
GV-SP (G500) | Gulfstream G500 Alert Customer Bulletin 3 | June 13, 2005.
GV-SP (G550) | Gulfstream G550 Alert Customer Bulletin 3 | June 13, 2005.

The customer bulletins specified in the table above describe procedures for deactivating the Adel Wiggins floor heater pad system by capping and stowing all associated electrical wiring at each circuit breaker for the floor heater pads, opening and collaring each associated circuit breaker, and labeling each collared circuit breaker inoperative. Accomplishing the actions specified in the service information is intended to adequately address the unsafe condition.

Each customer bulletin specified in the table above refers to Gulfstream Drawing 1159SB50018 as an additional source of service information for deactivating the Adel Wiggins floor heater pad system. This drawing is included as an attachment to each customer bulletin.

FAA's Determination and Requirements of This AD

The unsafe condition described previously is likely to exist or develop on other airplanes of the same type design. Therefore, we are issuing this AD to prevent short-circuiting of the floor heater pad system, which could result in a fire in the airplane cabin. This AD requires inspecting the airplane to determine if an Adel Wiggins floor heater pad system is installed and, if one is installed, accomplishing the actions specified in the service information described previously, except as discussed under “Differences Between the AD and Service Information.”

We are allowing a special flight permit to be issued to operate the airplane to a location where the requirements of this AD can be accomplished, provided that circuit breakers for the floor heater pad system are pulled and collared.

Differences Between the AD and Service Information

A note under paragraph 1.A., Effectivity, of Gulfstream G-IV Alert Customer Bulletin 33, Gulfstream GV Alert Customer Bulletin 22, Gulfstream G300 Alert Customer Bulletin 33, and Gulfstream G400 Alert Customer Bulletin 33, specifies contacting Gulfstream for assistance if an airplane with the Adel Wiggins floor heater pad system installed is not listed in the effectivity block of the referenced Gulfstream repair drawing. For any airplane that is found to have an Adel Wiggins floor heater pad system installed but that is not listed in the effectivity block of the referenced Gulfstream repair drawing, paragraph (h) of this AD requires deactivating the system in accordance with a method approved by the FAA.

Also, although the Accomplishment Instructions of the referenced customer bulletins describe procedures for reporting compliance with the customer bulletin to Gulfstream, this AD does not require that action.

These differences have been coordinated with the manufacturer.

FAA's Determination of the Effective Date

Since an unsafe condition exists that requires the immediate adoption of this AD, we have found that notice and opportunity for public comment before issuing this AD are impracticable, and that good cause exists to make this AD effective in less than 30 days.

Comments Invited

This AD is a final rule that involves requirements that affect flight safety and was not preceded by notice and an opportunity for public comment; however, we invite you to submit any relevant written data, views, or arguments regarding this AD. Send your comments to an address listed in the ADDRESSES section. Include “Docket No. FAA-2005-22074; Directorate Identifier 2005-NM-152-AD” at the beginning of your comments. We specifically invite comments on the overall regulatory, economic, environmental, and energy aspects of the AD that might suggest a need to modify it.

We will post all comments we receive, without change, to http://dms.dot.gov, including any personal information you provide. We will also post a report summarizing each substantive verbal contact with FAA personnel concerning this AD. Using the search function of that web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Dockets

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the National Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act. We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2005-16-14 Gulfstream Aerospace Corporation: Amendment 39-14220. Docket No. FAA-2005-22074; Directorate Identifier 2005-NM-152-AD.

Effective Date

(a) This AD becomes effective August 30, 2005.

Affected ADs

(b) None.

Applicability

(c) This AD applies to the airplanes identified in Table 1 of this AD, certificated in any category.

Table 1.—Applicability
Gulfstream model/series | Serial Nos.
G-IV | All.
GIV-X | 4001 through 4023 inclusive.
GV | All.
GV-SP | 5001 through 5075 inclusive.

Unsafe Condition

(d) This AD results from an incident of short-circuiting of the floor heater pads, in which no circuit breakers tripped in response to the short-circuiting. The FAA is issuing this AD to prevent short-circuiting of the floor heater pad system, which could result in a fire in the airplane cabin.

Compliance

(e) You are responsible for having the actions required by this AD performed within the compliance times specified, unless the actions have already been done.

Inspection To Determine If Subject System Installed

(f) Within 25 flight hours or 30 days after the effective date of this AD, whichever is first: Perform an inspection to determine if an Adel Wiggins floor heater pad system is installed. A review of airplane maintenance records is acceptable in lieu of this inspection if the presence of Adel Wiggins floor heater pads can be conclusively determined from that review.

Deactivation of Adel Wiggins Floor Heater Pad System

(g) If an Adel Wiggins floor heater pad system is found during the inspection required by paragraph (f) of this AD: Within 25 flight hours or 30 days after the effective date of this AD, whichever is first, deactivate the Adel Wiggins floor heater pad system in accordance with the Accomplishment Instructions of the applicable customer bulletin identified in Table 2 of this AD, except as provided by paragraph (h) of this AD. Although the customer bulletins referenced in Table 2 of this AD specify to report compliance to the manufacturer, this AD does not require that action.

Table 2.—Service Information
Gulfstream model | Customer bulletin, including Gulfstream drawing 1159SB50018 | Date
G-IV | Gulfstream G-IV Alert Customer Bulletin 33 | June 13, 2005.
GV | Gulfstream GV Alert Customer Bulletin 22 | June 13, 2005.
G-IV (G300) | Gulfstream G300 Alert Customer Bulletin 33 | June 13, 2005.
GIV-X (G350) | Gulfstream G350 Alert Customer Bulletin 2 | June 13, 2005.
G-IV (G400) | Gulfstream G400 Alert Customer Bulletin 33 | June 13, 2005.
GIV-X (G450) | Gulfstream G450 Alert Customer Bulletin 2 | June 13, 2005.
GV-SP (G500) | Gulfstream G500 Alert Customer Bulletin 3 | June 13, 2005.
GV-SP (G550) | Gulfstream G550 Alert Customer Bulletin 3 June 13, 2005 | June 13, 2005.

Airplanes Not Identified in the Gulfstream Repair Drawing

(h) For any airplane that is found to have an Adel Wiggins floor heater pad system installed but that is not listed in the effectivity block of Gulfstream Drawing 1159SB50018: Within 25 flight hours or 30 days after the effective date of this AD, whichever is first, deactivate the Adel Wiggins floor heater pad system in accordance with a method approved by the Manager, Atlanta Aircraft Certification Office (ACO), FAA.

Special Flight Permit

(i) Special flight permits may be issued in accordance with sections 21.197 and 21.199 of the Federal Aviation Regulations (14 CFR 21.197 and 21.199) to operate the airplane to a location where the requirements of this AD can be accomplished, provided that circuit breakers for the floor heater pad system are pulled and collared.

Alternative Methods of Compliance (AMOCs)

(j) The Manager, Atlanta ACO, has the authority to approve AMOCs for this AD, if requested in accordance with the procedures found in 14 CFR 39.19.

Material Incorporated by Reference

(k) You must use the documents specified in Table 3 of this AD to perform the actions that are required by this AD, unless the AD specifies otherwise. The Director of the Federal Register approves the incorporation by reference of these documents in accordance with 5 U.S.C. 552(a) and 1 CFR part 51. To get copies of the service information, contact Gulfstream Aerospace Corporation, Technical Publications Dept., P.O. Box 2206, Savannah, Georgia 31402-2206. To view the AD docket, go to the Docket Management Facility, U.S. Department of Transportation, 400 Seventh Street SW., room PL-401, Nassif Building, Washington, DC. To review copies of the service information, go to the National Archives and Records Administration (NARA). For information on the availability of this material at the NARA, call (202) 741-6030, or go to http://www.archives.gov/federal-register/cfr/ibr-locations.html.

Table 3.—Material Incorporated by Reference
Alert customer bulletin, including Gulfstream drawing 1159SB50018 | Date
Gulfstream G-IV Alert Customer Bulletin 33 | June 13, 2005.
Gulfstream GV Alert Customer Bulletin 22 | June 13, 2005.
Gulfstream G300 Alert Customer Bulletin 33 | June 13, 2005.
Gulfstream G350 Alert Customer Bulletin 2 | June 13, 2005.
Gulfstream G400 Alert Customer Bulletin 33 | June 13, 2005.
Gulfstream G450 Alert Customer Bulletin 2 | June 13, 2005.
Gulfstream G500 Alert Customer Bulletin 3 | June 13, 2005.
Gulfstream G550 Alert Customer Bulletin 3 | June 13, 2005.

Issued in Renton, Washington, on August 4, 2005.
Kevin M. Mullin,
Acting Manager, Transport Airplane Directorate, Aircraft Certification Service.

[FR Doc. 05-16003 Filed 8-12-05; 8:45 am]

BILLING CODE 4910-13-P